ENVIRONMENTAL PROTECTION AGENCY

40 CFR Part 52

[EPA-R07-OAR-2022-0419; FRL-9830-01-R7]

Air Plan Approval; Missouri; St. Louis Area Vehicle Inspection and Maintenance Program

AGENCY: Environmental Protection Agency (EPA).

ACTION: Proposed rule.

SUMMARY: The Environmental Protection Agency (EPA) is proposing to approve, through parallel processing, revisions to the Missouri State Implementation Plan (SIP) relating to the St. Louis area's vehicle Inspection and Maintenance (I/M) Program received on November 12, 2019, and March 2, 2022. In the submissions, Missouri requests EPA approval of revisions to a regulation and related plan that implement the St. Louis area's Inspection and Maintenance program called, Gateway Vehicle Inspection Program (GVIP). We propose to approve Missouri's removal of vehicles registered in Franklin County, unless the vehicle is primarily operated in the rest of the area, from the Gateway Vehicle Inspection program. The revisions to this rule include amending the rule exemption section for vehicles subject to the rule, removing unnecessary words, amending definitions specific to the rule, updates due to technology changes, and other minor edits. These revisions do not impact the attainment of any National Ambient Air Quality Standard (NAAQS) nor delay the timely attainment of 2015 Ozone National Ambient Air Quality Standard. Approval of these revisions will ensure consistency between state and federally approved rules.

DATES: Comments must be received on or before June 21, 2022.

ADDRESSES: You may send comments, identified by Docket ID No. EPA-R07-OAR-2022-0419 to https://www.regulations.gov. Follow the online instructions for submitting comments.

Instructions: All submissions received must include the Docket ID No. for this rulemaking. Comments received will be posted without change to https://www.regulations.gov, including any personal information provided. For detailed instructions on sending comments and additional information on the rulemaking process, see the “Written Comments” heading of the SUPPLEMENTARY INFORMATION section of this document.

FOR FURTHER INFORMATION CONTACT: Jed D. Wolkins, Environmental Protection Agency, Region 7 Office, Air Quality Planning Branch, 11201 Renner Boulevard, Lenexa, Kansas 66219; telephone number: (913) 551-7588; email address: wolkins.jed@epa.gov.

SUPPLEMENTARY INFORMATION: Throughout this document “we,” “us,” and “our” refer to the EPA.

Table of Contents

I. Written Comments

II. Parallel Processing

III. History and Current Status of St. Louis Area Air Quality

IV. Background of Missouri's I/M Program

V. What is being addressed in this document?

VI. Have the requirements for approval of a SIP revision been met?

VII. What is the EPA's analysis of Missouri's SIP request?

VIII. What action is the EPA proposing to take?

IX. Environmental Justice Concerns

X. Incorporation by Reference

XI. Statutory and Executive Order Reviews

I. Written Comments

Submit your comments, identified by Docket ID No. EPA-R07-OAR-2022-0419, at https://www.regulations.gov. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

II. Parallel Processing

Parallel processing refers to a process that utilizes concurrent state and federal proposed rulemaking actions, consistent with the provisions of 40 CFR part 51, appendix V. Generally, the state submits a copy of the proposed regulation or other revisions to EPA before conducting its public hearing and completing its public comment process under state law. EPA reviews this proposed state action and prepares a notice of proposed rulemaking (NPRM) under federal law.¹ If, after the state completes its public comment process and after EPA's public comment process, the state changes its final submittal from the proposed submittal, EPA evaluates those changes and decides whether to publish another NPRM in light of those changes or to proceed to taking final action on its proposed action and describe the state's changes in its final rulemaking action. Any final rulemaking action by EPA will occur only after the final submittal has been adopted by the state and formally submitted to EPA.

¹ Although not the case in this proposed rulemaking, in some instances, EPA's NPRM is published in the Federal Register during the same time frame that the state is holding its public hearing and conducting its public comment process. The state and EPA then provide for concurrent public comment periods on both the state action and federal action.

Missouri's November 12, 2019 submittal has been adopted by the state and formally provided to EPA. Missouri's public comment process has been completed for its March 2, 2022 submittal, but the implementing state regulation in the submittal has not been formally submitted by the state to EPA. In accordance with the parallel processing provisions in section 2.3.1 of 40 CFR part 51, appendix V, the State has been provided an opportunity to consider EPA comments prior to submission of a final plan for EPA's review and has submitted a schedule for final submittal of the state regulation. Specifically, Missouri's schedule includes publication of the order of rulemaking in the Missouri Register on April 15, 2022. The final state regulation was published in Missouri's Code of State Regulations (CSR) on April 30, 2022 and will become effective 30 days later on May 30, 2022. Missouri anticipates formally submitting the regulation package to EPA shortly after the rule's publication in the CSR. Because the State has satisfied all requirements for parallel processing concerning the March 2, 2022, submittal, EPA proposes to approve the submittal through parallel processing. If the State changes the final submittal from the version that we are proposing to approve today, EPA will evaluate the significance of those changes. If EPA finds any such changes to be significant, then the Agency intends to determine whether to re-propose based on the revised submission or proceed to take final action on the submittal as modified by the State.

III. History and Current Status of St. Louis Area Air Quality

The St. Louis, Missouri-Illinois bi-state area, which has been designated as nonattainment for several prior Ozone NAAQS, has historically included the counties of Franklin, Jefferson, St. Charles, and St. Louis and St. Louis City in Missouri, and the counties of Madison, Monroe and St. Clair in Illinois (hereafter referred to as the St. Louis area unless otherwise noted). For all Ozone NAAQS, except for the 2015 Ozone NAAQS, the St. Louis area has been redesignated to attainment as described in this section.

On May 12, 2003, EPA redesignated the St. Louis area from Serious nonattainment to attainment for the 1979 Ozone NAAQS. (68 FR 25418). On June 15, 2005, EPA revoked the 1979 1-hour Ozone NAAQS for all areas except the 8-hour Ozone nonattainment early action compact (EAC) areas. (70 FR 44470). The St. Louis area did not participate in the EAC and therefore, the 1-hour standard was revoked for all areas in Missouri effective June 15, 2005.

On February 20, 2015, EPA redesignated the St. Louis area from Moderate nonattainment to attainment for the 1997 8-hour Ozone NAAQS. (80 FR 9207). On March 6, 2015, EPA revoked the 1997 8-hour Ozone NAAQS. (80 FR 12264).

On September 20, 2018, EPA redesignated the St. Louis area from Moderate nonattainment to attainment for the 2008 8-hour Ozone NAAQS. (83 FR 47572). The 2008 8-hour Ozone NAAQS has not been revoked.

On April 30, 2018, EPA designated Boles Township of Franklin County, St. Charles County, St. Louis County, and St. Louis City as Marginal nonattainment for the 2015 Ozone NAAQS. (83 FR 25776) As part of that same action, EPA designated Jefferson County and the remaining portion of Franklin County as attainment/unclassifiable. On July 10, 2020, the District of Columbia Circuit Court remanded the Jefferson County designation (among other designations) back to the EPA. The Court upheld EPA's designation of Boles Township as nonattainment and the remainder of Franklin County as attainment/unclassifiable. In response to the Court remand, the EPA revised the Jefferson County designation to nonattainment on May 26, 2021. (86 FR 31438) On November 16, 2017, EPA designated all areas of Missouri except the St. Louis area as attainment/unclassifiable for the 2015 8-hour Ozone NAAQS. (82 FR 54232)

On March 29, 1999, EPA redesignated a portion of St. Louis County and St. Louis City from nonattainment to attainment for the 1971 Carbon Monoxide (CO) NAAQS. (64 FR 3855).

On August 3, 2018, EPA redesignated Franklin County, Jefferson County, St. Charles County, St. Louis County, and St. Louis City from nonattainment to attainment for the 1997 Annual Fine Particulate Matter (PM2.5) NAAQS. (83 FR 38033).

A portion of Jefferson County is currently designated nonattainment for both the 2008 and 1978 Lead NAAQS. This nonattainment area is currently monitoring compliance with both the 1978 and 2008 Lead NAAQS.² The rest of the St. Louis Area is designated attainment/unclassifiable for both the 2008 and 1978 Lead NAAQS.

² See file titled Herculaneum AQS Report in Docket.

On January 28, 2022, EPA redesignated a portion of Jefferson County from nonattainment to attainment for the 2010 1-hour SO2 NAAQS. (87 FR 4508). The rest of the St. Louis Area is designated as either attainment or unclassifiable for the 2010 SO2 NAAQS.

The St. Louis Area is designated attainment/unclassifiable for all other NAAQS.

IV. Background of Missouri's I/M Program

Under section 182 (b)(4),(c), and (d) of the CAA, vehicle I/M programs are required for areas that are classified as Moderate or above nonattainment for Ozone. As a result, Missouri has previously submitted, and the EPA has previously approved into the SIP an I/M program for the St. Louis Area of Franklin County, Jefferson County, St. Charles County, St. Louis County, and St. Louis City.³ At the time of the program's inception, the program was based on tailpipe testing. In 2000, the EPA approved Missouri's switch to On Board Diagnostic testing for the same geographic area, consistent with our regulations and section 182 of the CAA.⁴

³ 50 FR 32411, August 12, 1985.

⁴ 65 FR 62295, May, 18, 2000.

V. What is being addressed in this document?

The EPA is proposing to approve, through parallel processing, revisions to the Missouri SIP received on November 12, 2019 and March 2, 2022. In the November 12, 2019, submission, Missouri requested EPA approval of revisions to the vehicle I/M Program also known as GVIP, for the St. Louis area. The revisions remove both Franklin and Jefferson Counties from the GVIP; however, the EPA is only proposing to take action on the removal of Franklin County from the GVIP in accordance with a request from Missouri.

At the time of the November 12, 2019 submission, Missouri had not yet revised the implementing GVIP regulations nor provided supplemental emission controls to offset the emission increases resulting from ceasing vehicle emission inspections in the Boles Township portion of the nonattainment area, in accordance with CAA section 110(l). EPA's longstanding position is that the implementing rule revision and supplemental emission controls, for the nonattainment area, are needed for EPA approval. This position is consistent with the CAA, our implementing regulations, and our previous approvals of I/M removal across the nation.

At the time of Missouri's November 12, 2019 submission, Jefferson County was designated as attainment/unclassifiable for the 2015 Ozone NAAQS. As a result of the May 26, 2021 EPA designation for Jefferson County to nonattainment, Missouri requested that EPA act on the removal of Franklin County from the GVIP plan and postpone action on the removal of Jefferson County from the GVIP plan via a letter dated December 6, 2021.⁵ Missouri would need to provide further supplemental emission controls for us to be able to propose approving the removal of I/M in Jefferson County as long as the County remains designated nonattainment. Additionally, in response to comment from EPA on the draft rulemaking, Missouri limited the implementing regulation's exemption to Franklin County as opposed to exempting both Franklin and Jefferson Counties.

⁵ Missouri's December 6, 2021 letter to EPA is included in the docket for this action.

On March 2, 2022, Missouri submitted a draft SIP revision supplementing the November 12, 2019 submittal, along with a parallel processing request. The March 2, 2022 submittal included both the revised implementing rule, 10 CSR 10-5.381, and supplemental emission controls to offset the increased emissions in the Boles Township portion of Franklin County that is designated as nonattainment for the 2015 Ozone NAAQS. The revision to 10 CSR 10-5.381 adds an exemption for vehicles registered in Franklin County from the program unless the vehicles are primarily operated in the remainder of nonattainment area. The revisions to this rule include amending the rule exemption section for vehicles subject to the rule, removing unnecessary words, amending definitions specific to the rule, and other minor edits. The EPA is proposing to approve the portion of the November 12, 2019 GVIP Plan relating to Franklin County, St. Charles County, St. Louis County, and St. Louis City, by approving the removal of Franklin County from the I/M program, and fully approve the revisions to 10 CSR 10-5.381.

In accordance with Missouri's December 6, 2021, letter, the EPA is not taking action on Missouri's November 12, 2019 request to remove Jefferson County from the Inspection and Maintenance Program for the St. Louis Area. Missouri states in the 2021 letter that it views the requests in the 2019 SIP revision to remove inspection and maintenance requirements in Franklin and Jefferson Counties as severable. The EPA agrees the removal of inspection and maintenance requirements in Franklin and Jefferson Counties are severable. Missouri also states in the letter that the implementing regulation, 10 CSR 10-5.381, continues to require the inspection and maintenance program to operate in Jefferson County. As a result of today's proposed action, the nonregulatory 1999 Implementation Plan for the Missouri Inspection and Maintenance Program, originally approved into the SIP on May 18, 2000, 65 FR 31480, remains approved into the SIP for Jefferson County. The EPA proposes to approve the nonregulatory Inspection and Maintenance Program for the St. Louis Area—2019 Revision, into the SIP, which requires the I/M program to continue to operate in the City of St. Louis and the counties of St. Louis and St. Charles and removes requirements for Franklin County.

The EPA's analysis of the revisions can be found in the “What is the EPA's analysis of Missouri's SIP request?” section and in the technical support document (TSD) included in this docket.

VI. Have the requirements for approval of a SIP revision been met?

Both the 2019 and 2022 State submissions have met the public notice requirements for SIP submissions in accordance with 40 CFR 51.102. The submission also satisfied the completeness criteria of 40 CFR part 51, appendix V. The State provided public notice on the November 12, 2019 SIP revision from July 29, 2019 to August 29, 2019 and on the March 2, 2022 SIP revision from October 15, 2021 to December 9, 2021. The State received ten comments during the 2019 public notice. The State received four comments on the 2021 public notice. The EPA finds Missouri has adequately addressed the comments received in its submissions. Please see the TSD for more discussion on Missouri's responses to comments. In addition, as explained here and in more detail in the TSD which is part of this docket, the revision meets the substantive SIP requirements of the Clean Air Act (CAA), including section 110 and implementing regulations.

VII. What is the EPA's analysis of Missouri's SIP request?

EPA is making the preliminary determination that the Ozone NAAQS is the primary focus for the noninterference demonstration required by section 110(l) of the CAA because the I/M program results primarily in emissions benefits for VOCs, NOX, and CO. While the GVIP program does produce CO reductions, the St. Louis Area has CO concentration much less than the CO NAAQS. Ozone concentrations are at the Ozone NAAQS. As such, any increases to CO emissions are unlikely to lead to a violation of the CO NAAQS, but any increases to Ozone precursors are extremely likely to cause a violation of the Ozone NAAQS. VOCs and NOX emissions are precursors for Ozone. NOX emissions are precursors for particulate matter. NO2 is a component of NOX. There are no emissions reductions attributable to the emissions of particulate matter, lead and sulfur dioxide (SO2) from the I/M program.

In Missouri's March 2, 2022, SIP revision, the State concluded that the removal of the Franklin County from the I/M program would not interfere with attainment or maintenance of the Ozone NAAQS. While MOVES2014 mobile emissions modeling results show no Ozone precursor increase from 2017 to 2020 associated with the removal of Franklin County from the I/M program, MOVES2014 mobile emission modeling results show Ozone emission precursor increases on a same year comparison. The Ozone design value in St. Louis is right at the level of the 2015 Ozone standard. Since Boles Township of Franklin County is part of the St. Louis nonattainment area and emissions from Boles Township have been shown to impact air quality in the rest of the St. Louis Area, Missouri has provided supplemental NOX emission controls exceeding the amount of the highest same year increase from removal of the I/M program. Since the rest of Franklin County is attainment/unclassifiable for the 2015 Ozone NAAQS and emissions from the rest of the county do not impact the St. Louis Area, Missouri is relying on the 2017 to 2020 emission comparison. The EPA proposes to find that removal of Franklin County from the SIP-approved I/M program would not interfere with attainment or maintenance of the 2015 or any prior Ozone NAAQS.

Franklin County is designated attainment or unclassifiable for all other NAAQS. Missouri's MOVES2014 mobile emission modeling showed no emission increase for particulate matter, NO2, CO, or lead. Based on this data together with air quality data, EPA is making the preliminary determination that the change will not interfere with the area's ability to maintain the particulate matter, NO2, CO, or lead NAAQS, or any other applicable requirement. EPA is making the preliminary determination that the change will not interfere with reasonable progress towards natural visibility in Missouri's Class I areas nor any Class I area in another state Missouri impacts. For more details please see the “Clean Air Act (CAA) Section 110(l) Demonstration” section of the TSD in the docket of this action.

VIII. What action is the EPA proposing to take?

The EPA is proposing to approve, through parallel processing, revisions to the Missouri SIP received on November 12, 2019 and March 2, 2022. The EPA is proposing to approve portions of the November 12, 2019 GVIP Plan, by approving the removal of Franklin County from the I/M program, and fully approve the revisions to 10 CSR 10-5.381. The EPA is not taking action on the remainder of the November 12, 2019 GVIP Plan, at this time. We are soliciting comments on this proposed action. Final rulemaking will occur after consideration of any comments.

IX. Environmental Justice Concerns

When the EPA reviews a state's desired change to their SIP for a NAAQS, the CAA requires the EPA to ensure that the change will not cause “backsliding” of the air quality or delaying attainment of air quality. SIP revisions address environmental justice concerns by ensuring that the public is properly informed about the Plan and regulations to attain and maintain air quality.

The EPA utilized the EJSCREEN tool to evaluate environmental and demographic indicators within Franklin County, Jefferson County, St. Charles County, St. Louis County, and St. Louis City. The tool outputs reports are contained in the docket for this action. Looking specifically at Franklin County, the EPA's EJSCREEN tool demonstrates that demographic indicators are consistent with national averages, however there are vulnerable populations in Franklin County including low-income populations and persons over 64 years of age. In addition, emissions from Boles Township impact populations in the other portions of the nonattainment area. St. Louis City has demographic indicators significantly above national averages for low-income and minority populations. While the other counties' demographic indicators are consistent with or lower than national averages, there are vulnerable populations in these Counties including low-income populations and persons over 64 years of age.

CAA section 110 requires Missouri to provide supplemental emission controls for the increases from Boles Township. As described earlier, EPA proposes to find these supplemental emission controls are sufficient to address the projected emissions increase from ceasing GVIP in Franklin County.

This action addresses EPA's determination that the removal of Franklin County registered vehicles from the GVIP, unless they are predominately operated in the rest of the St. Louis Area. This action proposes to determine the removal of these Franklin County registered vehicles from the GVIP will not have an adverse impact to air quality or interfere with the nonattainment area attaining or maintaining the NAAQS. For these reasons, this proposed action does not result in disproportionately high and adverse human health or environmental effects on minority populations, low-income populations and/or indigenous peoples.

X. Incorporation by Reference

In this document, the EPA is proposing to include regulatory text in an EPA final rule that includes incorporation by reference. In accordance with requirements of 1 CFR 51.5, the EPA is proposing to incorporate by reference the Missouri 10 CSR 10-5.381 as described in Sections V and VIII of this preamble and set forth below in the proposed amendments to 40 CFR part 52. The EPA has made, and will continue to make, these materials generally available through www.regulations.gov and at the EPA Region 7 Office (please contact the person identified in the FOR FURTHER INFORMATION CONTACT section of this preamble for more information).

XI. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of the National Technology Transfer and Advancement Act (NTTA) because this rulemaking does not involve technical standards; and

• This action does not have disproportionately high and adverse human health or environmental effects on minority populations, low-income populations and/or indigenous peoples, as specified in Executive Order 12898 (59 FR 7629, February 16, 1994). The basis for this determination is contained in section IX of this action, “Environmental Justice Concerns.”

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: May 11, 2022.
Meghan A. McCollister,
Regional Administrator, Region 7.

For the reasons stated in the preamble, the EPA proposes to amend 40 CFR part 52 as set forth below:

PART 52—APPROVAL AND PROMULGATION OF IMPLEMENTATION PLANS

1. The authority citation for part 52 continues to read as follows:

Authority: 42 U.S.C. 7401 et seq.

Subpart AA—Missouri

2. In § 52.1320:

a. In the table in paragraph (c):

i. Revise the entry “10-5.381”.

b. In the table in paragraph (e):

i. Revise the entry “(38)”.

ii. Add the entry “(84)” in numerical order.

The revisions and addition read as follows:

§ 52.1320 Identification of plan.

* * * * *

(c) * * *

EPA-Approved Missouri Regulations
Missouri citation | Title | State effective date | EPA approval date | Explanation
Missouri Department of Natural Resources
* * * * * * *
Chapter 5—Air Quality Standards and Air Pollution Control Regulations for the St. Louis Metropolitan Area
* * * * * * *
10-5.381 | On-Board Diagnostics Motor Vehicle Emissions Inspection | 5/30/2022 | [Date of publication of the final rule in the Federal Register], [Federal Register citation of the final rule] |
* * * * * * *

* * * * *

(e) * * *

EPA-Approved Missouri Nonregulatory SIP Provisions
Name of nonregulatory SIP provision | Applicable geographic or nonattainment area | State submittal date | EPA approval date | Explanation
* * * * * * *
(38) Implementation plan for the Missouri inspection maintenance program | Jefferson County | 11/12/1999 | 5/18/2000, 65 FR 31480 | [MO 096-1096b; FRL-6701-6]. Approved for Jefferson County only.
* * * * * * *
(84) Implementation plan for the Missouri inspection maintenance program | St. Charles County, St. Louis County, and St. Louis City | 11/12/2019, 3/2/2022 | [Date of publication of the final rule in the Federal Register], [Federal Register citation of the final rule] | [EPA-R07-OAR-2022-0419; FRL-9830-01-R7]. Approved only for St. Charles County, St. Louis County, and St. Louis City and removal of Franklin County. Removal of Jefferson County is not SIP approved.

[FR Doc. 2022-10688 Filed 5-18-22; 8:45 am]

BILLING CODE 6560-50-P